DEPARTMENT OF TRANSPORTATION

Federal Aviation Administration

14 CFR Part 95

[Docket No. 30590; Amdt. No. 472]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, February 14, 2008.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95 Airspace, Navigation (air).

Issued in Washington, DC on January 18, 2008.
James J. Ballough,
Director, Flight Standards Service.

Adoption of the Amendment

Accordingly, pursuant to the authority delegated to me by the Administrator, part 95 of the Federal Aviation Regulations (14 CFR part 95) is amended as follows effective at 0901 UTC, February 14, 2008.

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 472 Effective Date, February 14, 2008]
From | To | MEA
Color Routes
§ 95.48 Green Federal Airway G8 Is Amended to Read in Part
Nosky, AK FIX | Kachemak, AK NDB | 6100
§ 95.2 Red Federal Airway R99 Is Amended to Read in Part
St Paul Island, AK | Dutch Harbor, AK NDB/DME | #4800
#HF Comms Required Below 8000 MSL
Saldo, AK NDB | Iliamna, AK NDB/DME | *5000
*4400-MOCA
Iliamna, AK NDB/DME | Kachemak, AK NDB | 6100

From | To | MEA | MAA
§ 95.3234 RNAV Route T234 Is Amended to Read in Part
*Fairbanks, AK VORTAC | Tollo, AK FIX | 5000 | 17500
*4300-MCA FAIRBANKS, AK VORTAC, W BND

From | To | MEA
§ 95.6001 Victor Routes—U.S.
§ 95.6016 VOR Federal Airway V16 Is Amended to Read in Part
Patuxent, MD VORTAC | *Gared, MD FIX | **4500
*8000-MRA
**1500-MOCA
**4000-GNSS MEA
Gared, MD FIX | Chops, MD FIX | *4500
*1500-MOCA
*4000-GNSS MEA
§ 95.6026 VOR Federal Airway V26 Is Amended to Read in Part
Montrose, CO VOR/DME | Grand Junction, CO VORTAC | 11000
Huron, SD VORTAC | Obitt, SD FIX | 5000
Obitt, SD FIX | Redwood Falls, MN VOR/DME | 5000
§ 95.6036 VOR Federal Airway V36 Is Amended to Read in Part
Hawly, PA FIX | Hopce, NJ FIX | *15500
*3600-MOCA
*4000-GNSS MEA
Hopce, NJ FIX | Neion, NJ FIX | *13500
*3600-MOCA
*4000-GNSS MEA
§ 95.6063 VOR Federal Airway V63 Is Amended to Read in Part
Wausau, WI VORTAC | Rhinelander, WI VORTAC | *4000
*3500-MOCA
§ 95.6074 VOR Federal Airway V74 Is Amended to Read in Part
Fort Smith, AR VORTAC | Charr, AR FIX | 2500
Charr, AR FIX | Magga, AR FIX | 4000
Magga, AR FIX | Danil, AR FIX | *4500
*4000-MOCA
Danil, AR FIX | Ollas, AR FIX | *4500
*2600-MOCA
Ollas, AR FIX | Maume, AR FIX | *4500
*2700-MOCA
Maume, AR FIX | Little Rock, AR VORTAC | 3500
§ 95.6139 VOR Federal Airway V139 Is Amended to Read in Part
Sea Isle, NJ VORTAC | Avalo, NJ FIX | *4500
*4000-GNSS MEA
Avalo, NJ FIX | Harbo, NJ FIX | *6000
*4000-GNSS MEA
Harbo, NJ FIX | Drift, NJ FIX | *7500
*3000-GNSS MEA
Drift, NJ FIX | Manta, NJ FIX | *12000
*3000-GNSS MEA
Manta, NJ FIX | Plume, NJ FIX | *7000
*2000-MOCA
*3000-GNSS MEA
§ 95.6157 VOR Federal Airway V157 Is Amended to Read in Part
Patuxent, MD VORTAC | *Gared, MD FIX | **4500
*8000-MRA
**1500-MOCA
**4000-GNSS MEA
Gared, MD FIX | Chops, MD FIX | *4500
*1500-MOCA
*4000-GNSS MEA
§ 95.6213 VOR Federal Airway V213 Is Amended to Read in Part
Patuxent, MD VORTAC | *Gared, MD FIX | **4500
*8000-MRA
**1500-MOCA
**4000-GNSS MEA
Gared, MD FIX | Chops, MD FIX | *4500
*1500-MOCA
*4000-GNSS MEA
§ 95.6229 VOR Federal Airway V229 Is Amended to Read in Part
Patuxent, MD VORTAC | *Gared, MD FIX | **4500
*8000-MRA
**1500-MOCA
**4000-GNSS MEA
Gared, MD FIX | Donil, DE FIX | *8000
*1600-MOCA
*4000-GNSS MEA
§ 95.6268 VOR Federal Airway V268 Is Amended to Read in Part
Avalo, NJ FIX | Harbo, NJ FIX | *6000
*4000-GNSS MEA
Harbo, NJ FIX | Drift, NJ FIX | *7500
*3000-GNSS MEA
Drift, NJ FIX | Manta, NJ FIX | *12000
*3000-GNSS MEA
Manta, NJ FIX | Plume, NJ FIX | *7000
*2000-MOCA
*3000-GNSS MEA
§ 95.6276 VOR Federal Airway V276 Is Amended to Read in Part
*Gamby, NJ FIX | Manta, NJ FIX | **6000
*6000-MRA
**2000-MOCA
**2000-GNSS MEA
§ 95.6308 VOR Federal Airway V308 Is Amended to Read in Part
Sea Isle, NJ VORTAC | Avalo, NJ FIX | *4500
*4000-GNSS MEA
Avalo, NJ FIX | Harbo, NJ FIX | *6000
*4000-GNSS MEA
Harbo, NJ FIX | Drift, NJ FIX | *7500
*3000-GNSS MEA
Drift, NJ FIX | Manta, NJ FIX | *12000
*3000-GNSS MEA
Manta, NJ FIX | Plume, NJ FIX | *7000
*2000-MOCA
*3000-GNSS MEA
§ 95.6363 VOR Federal Airway V363 Is Amended to Read in Part
Mission Bay, CA VORTAC | Hursi, CA FIX | 3000
Hursi, CA FIX | Oorah, CA FIX | *4000
*2600-MOCA
Oorah, CA FIX | Ofree, CA FIX | *4000
*2300-MOCA
Ofree, CA FIX | El Toro, CA VOR/DME | 4000
El Toro, CA VOR/DME | Pomona, CA VORTAC | 4000
§ 95.6333 Alaska VOR Federal Airway V333 Is Amended to Read in Part
Nome, AK VOR/DME | Gaits, AK FIX
| N BND | 10000
| S BND | 4000
§ 95.6388 Alaska VOR Federal Airway V388 Is Amended to Read in Part
Kenai, AK VOR/DME | Napto, AK FIX |
Napto, AK FIX | Anchorage, AK VOR/DME | 2400
§ 95.6438 Alaska VOR Federal Airway V438 Is Amended to Read in Part
Napto, AK FIX | Anchorage, AK VOR/DME | 2400
§ 95.6445 Alaska VOR Federal Airway V445 Is Amended to Read in Part
*Fairbanks, AK VORTAC | Wilts, AK FIX | 5000
*4000-MCA Fairbanks, AK VORTAC, W BND
Wilts, AK FIX | Tollo, AK FIX | *5000
*4200-MOCA
Kanut, AK FIX | Bettles, AK VOR/DME
| NW BND | 3500
| SE BND | 7000
§ 95.6477 Alaska VOR Federal Airway V477 Is Amended to Read in Part
Selawik, AK VOR/DME | Desoy, AK FIX
*2500-MOCA
| W BND | *2500
| E BND | *4000
Desoy, AK FIX | Atago, AK FIX | *4000
*3900-MOCA
Atago, AK FIX | Huslia, AK VOR/DME
*2500-MOCA
| W BND | *4000
| E BND | *3500
§ 95.6488 Alaska VOR Federal Airway V488 Is Amended to Read in Part
*Reeba, AK FIX | Golly, AK FIX | **7000
*7000-MRA
**5000-MOCA
Golly, AK FIX | *Fairbanks, AK VORTAC | 4500
*3700-MCA FAIRBANKS, AK VORTAC, W BND
§ 95.6504 Alaska VOR Federal Airway V504 Is Amended to Read in Part
Nenana, AK VORTAC | Kanut, AK FIX | 7000
§ 95.6506 Alaska VOR Federal Airway V506 Is Amended to Read in Part
*Kodiak, AK VOR/DME | Baily, AK FIX
| W BND | **12000
| E BND | **7000
**4900-MOCA
*3600-MCA Kodiak, AK VOR/DME, W BND
Baily, AK FIX | Bremi, AK FIX | #*12000
*9700-MOCA
*10000-GNSS MEA
#MEA IS ESTABLISHED WITH A GAP IN NAVIGATION SIGNAL COVERAGE
Bremi, AK FIX | *King Salmon, AK VORTAC
| E BND | **12000
| W BND | **5000
*2400-MCA KING SALMON, AK VORTAC, E BND
**4600-MOCA
§ 95.6531 Alaska VOR Federal Airway V531 Is Amended to Read in Part
Berjo, AK FIX | Kotzebue, AK VOR/DME
| NW BND | *2500
| SE BND | *8000
*2500-MOCA
Selawik, AK VOR/DME | Desoy, AK FIX
| W BND | *2500
| E BND | *4000
*2500-MOCA
Desoy, AK FIX | Atago, AK FIX | *4000
*3900-MOCA
Atago, AK FIX | Huslia, AK VOR/DME
| W BND | *4000
| E BND | *3500
*2500-MOCA
Huslia, AK VOR/DME | Cense, AK DME AK
| W BND | *3500
| E BND | *6500
*3000-MOCA
Cense, AK DME AK | Elcon, AK FIX | *6500
*5700-MOCA
Elcon, AK FIX | Tanana, AK VOR/DME
| W BND | *6500
| E BND | *5400
*5400-MOCA
Tanana, AK VOR/DME | *Reeba, AK FIX
| E BND | **7000
| W BND | **4000
*7000-MRA
**4000-MOCA
Reeba, AK FIX | Golly, AK FIX | *7000
*5000-MOCA
Golly, AK FIX | *Fairbanks, AK VORTAC | 4500
*3700-MCA FAIRBANKS, AK VORTAC, W BND
§ 95.8003 VOR Federal Airway Changeover Points

§ 95.8003 VOR Federal Airway Changeover Points
Airway segment: From | Airway segment: To | Changeover points: Distance | Changeover points: From
Alaska V506 Is Amended to Modify Changeover Point
Kodiak, AK VOR/DME | King Salmon, VORTAC | 55 | Kodiak
Alaska V531 Is Amended to Modify Changeover Point
Point Hope, AK NDB | Kotzebue, AK VOR/DME | 15 | Point Hope, AK NDB

[FR Doc. E8-1368 Filed 1-25-08; 8:45 am]

BILLING CODE 4910-13-P